FEDERAL DEPOSIT INSURANCE CORPORATION

[OMB No. 3064-0122]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collection described below (OMB Control No. 3064-0122).

DATES: Comments must be submitted on or before December 19, 2022.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Forms Relating to FDIC Outside Counsel, Legal Support and Expert Services Programs.

2. OMB Number: 3064-0122.

Affected Public: Entities providing legal and expert services to the FDIC.

Burden Estimate:

Summary of Estimated Annual Burden
[OMB No. 3064-0122]
Information collection (obligation to respond) | Type of burden (frequency of response) | Number of respondents | Number of responses per respondent | Time per response (HH:MM) | Annual burden (hours)
1. Non-Litigation Budget Form, 12 CFR 361 and 12 CFR 366 (Mandatory) | Reporting (On Occasion) | 2 | 1 | 00:30 | 1
2. Amended Litigation Budget, 12 CFR 361 and 12 CFR 366 (Mandatory) | Reporting (On Occasion) | 4 | 1 | 00:30 | 2
3. Amended Non-Litigation Budget, 12 CFR 361 and 12 CFR 366 (Mandatory) | Reporting (On Occasion) | 1 | 1 | 00:30 | 1
4. Litigation Budget, 12 CFR 361 and 12 CFR 366 (Mandatory) | Reporting (On Occasion) | 6 | 1 | 00:30 | 3
5. Representations and Certifications for Legal Contractors, 12 CFR 361 and 12 CFR 366 (Mandatory) | Reporting (On Occasion) | 10 | 1 | 00:45 | 8
6. Expert invoice for Fees and Expenses (EIF&E), 12 CFR 361 and 12 CFR 366 (Mandatory) | Reporting (On Occasion) | 2 | 1 | 00:30 | 1
7. Legal Support Services (LSS) Provider Invoice for Fees and Expenses (IF&E), 12 CFR 361 and 12 CFR 366 (Mandatory) | Reporting (On Occasion) | 2 | 1 | 00:30 | 1
8. Agreement for Services (Expert Legal Support Services (LSS) Provider Amendment, 12 CFR 361 and 12 CFR 366 (Mandatory) | Reporting (On Occasion) | 3 | 1 | 01:00 | 3
9. Agreement for Services (expert or Legal Support Services Provider) Provider Rate Schedule, 12 CFR 361 and 12 CFR 366 (Mandatory) | Reporting (On Occasion) | 6 | 1 | 01:00 | 6
10. Legal Services Agreement (LSA) Amendment, 12 CFR 361 and 12 CFR 366 (Mandatory) | Reporting (On Occasion) | 8 | 1 | 01:00 | 8
11. Expert budget, 12 CFR 361 and 12 CFR 366 (Mandatory) | Reporting (On Occasion) | 2 | 1 | 00:30 | 1
12. Representations and Certifications for Experts and Legal Support Services Providers, 12 CFR 361 and 12 CFR 366 (Mandatory) | Reporting (On Occasion) | 5 | 1 | 01:00 | 5
13. Outside Counsel Legal Services Agreement Rate Schedule, 12 CFR 361 and 12 CFR 366 (Mandatory) | Reporting (On Occasion) | 10 | 1 | 01:00 | 10
14. Legal Invoice for Fees and Expenses, 12 CFR 361 and 12 CFR 366 (Mandatory) | Reporting (On Occasion) | 3 | 1 | 01:00 | 3
15. Firm Travel Voucher, 12 CFR 361 and 12 CFR 366 (Mandatory) | Reporting (On Occasion) | 3 | 1 | 01:00 | 3
16. Oral Representations and Certifications for Expert Legal Support Services, 12 CFR 361 and 12 CFR 366 (Mandatory) | Reporting (On Occasion) | 1 | 1 | 00:30 | 1
17. Legal Support Services (LSS) Provider Budget Form, 12 CFR 361 and 12 CFR 366 (Mandatory) | Reporting (On Occasion) | 6 | 1 | 00:30 | 3
18. Legal Service Agreement (LSA), 12 CFR 361 and 12 CFR 366 (Mandatory) | Reporting (On Occasion) | 15 | 1 | 00:15 | 4
Total Annual Burden (Hours) |  |  |  |  | 64
Source: FDIC.

General Description of Collection: The information collected enables the FDIC to ensure that all individuals, businesses and firms seeking to provide legal support services to the FDIC meet the eligibility requirements established by Congress. The information is also used to manage and monitor payments to contractors, document contract amendments, expiration dates, billable individuals, minority law firms, and to ensure that law firms, experts, and other legal support services providers comply with statutory and regulatory requirements. This collection consists of 18 forms. The decrease of 843 hours is entirely the result of the reduction in the estimated number of annual respondents as a result of a revised methodology.

Request for Comment: Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on October 13, 2022.
James P. Sheesley,
Assistant Executive Secretary.

[FR Doc. 2022-22640 Filed 10-18-22; 8:45 am]

BILLING CODE 6714-01-P